COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds services to the Procurement List that will be provided by nonprofit agencies employing persons who are blind or have other severe disabilities, and deletes products and services from the Procurement List previously furnished by such agencies.

DATES: Effective Date: 3/26/2012.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION:

Additions

On 12/23/2011 (76 FR 80346); 12/30/2011 (76 FR 82282-82283); and 1/6/2012 (77 FR 780), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Services

Service Type/Location: Custodial Service, Eastern ARNG Aviation Training Site, Capital City Airport Hanger 2, 240 Airport Road, New Cumberland, PA.

NPA: Opportunity Center, Incorporated, Wilmington, DE.

Contracting Activity: Dept of the Army, W7NX USPFO Activity PA ARNG, Annville, PA.

Service Type/Location: Grounds Maintenance, National Weather Service, 5655 Hollywood Ave., Shreveport, LA.

NPA: Goodwill Industries of North Louisiana, Inc., Shreveport, LA.

Contracting Activity: Dept of Commerce, National Oceanic and Atmospheric Administration, Boulder, CO.

Service Type/Location: Janitorial, FAA Mike Monroney Aeronautical Center, 6500 S. MacArthur Blvd., Oklahoma City, OK.

NPA: Dale Rogers Training Center, Inc., Oklahoma City, OK.

Contracting Activity: Dept of Transportation, Federal Aviation Administration, Oklahoma City, OK.

Service Type/Location: Custodial Service and Grounds Maintenance, Salmon Airbase, 8 Industrial Lane, US Forest Service, Salmon, ID.

NPA: Development Workshop, Inc., Idaho Falls, ID.

Contracting Activity: US Forest Service, Caribou-Targhee National Forest, Idaho Falls, ID.

Service Type/Location: Custodial and Grounds Maintenance, US Border Station, 160 Garrison Street, Eagle Pass, TX, US Border Station, 500 Adams Street, Eagle Pass, TX, VACIS Border Station, 500 Adams Street, Eagle Pass, TX.

NPA: Endeavors Unlimited, Inc., San Antonio, TX.

Contracting Activity: General Services Administration, Public Buildings Service, ACQ MGT SVC BR, Fort Worth, TX.

Service Type/Location: Mail Services, National Finance Center, (Offsite: 2762 Rand Rd., Indianapolis, IN), 13800 Old Gentilly Road, New Orleans, LA.

NPA: Anthony Wayne Rehabilitation Ctr for Handicapped and Blind, Inc., Fort Wayne, IN.

Contracting Activity: Dept of Agriculture, USDA, Office of the Chief Financial Officer, Washington, DC.

Deletions

On 10/14/2011 (76 FR 63905-63906); 10/21/2011 (76 FR 65501-65502); 10/28/2011 (76 FR 66913-66914); and 12/30/2011 (76 FR 82282-82283), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

Pad, Cooling, Chemical

NSN: 6530-00-133-4299.

NPA: Employ+Ability, Inc., Braintree, MA.

Contracting Activity: Defense Logistics Agency Troop Support, Philadelphia, PA.

NSN: 7490-01-483-8984—Paper Shredder, Cross Cut.

NSN: 7490-01-483-8985—Paper Shredder, Strip Cut.

NSN: 7490-01-483-8990—Paper Shredder, Strip Cut.

NSN: 7490-01-483-8991—Paper Shredder, Cross Cut.

NPA: L.C. Industries for the Blind, Inc., Durham, NC.

Contracting Activity: General Services Administration, New York, NY.

Services

Service Type/Location: Removal of Tool Identification Numbers, Tinker Air Force Base, OK.

NPA: Work Activity Center, Inc., Moore, OK.

Contracting Activity: Dept of the Air Force, FA8101 OC ALC PKO, Tinker AFB, OK.

Service Type/Location: Janitorial/Custodial, FAA NAVAIDS Communication, Building 1300, Spokane International Airport, Spokane, WA.

NPA: Career Connections, Spokane, WA.

Contracting Activity: Department of Transportation, Massena, NY.

Service Type/Location: Janitorial/Custodial, Naval & Marine Corps Reserve Center, 4087 West Harvard, Boise, ID.

NPA: Western Idaho Training Company, Caldwell, ID.

Contracting Activity: Dept of the Navy, Navy Region Northwest Reserve, Everett, WA.

Barry S. Lineback,
Director, Business Operations.

[FR Doc. 2012-4311 Filed 2-23-12; 8:45 am]

BILLING CODE 6353-01-P